MARINE MAMMAL COMMISSION

Sunshine Act Notice

time and date: The Marine Mammal Commission and its Committee of Scientific Advisors on Marine Mammals will meet in executive session on Tuesday, 26 October 2004, from 8:30 a.m. to 10 a.m. The public sessions of the Commission and the Committee meeting will be held on Tuesday, 26 October 2004, from 10 a.m. to 5:15 p.m., on Wednesday, 27 October 2004, from 8:30 a.m. to 5 p.m., and on Thursday, 28 October 2004, from 1:30 p.m. to 5:15 p.m.

place: Royal Kona Resort, 75-5852 Alii Drive, Kailua-Kona, Hawaii 96740; telephone: (808) 329-3111; fax: (808) 329-9532.

status: The executive session will be closed to the public. At it, matters relating to international negotiations in process, personnel, and the budget of the Commission will be discussed. All other portions of the meeting will be open to public observation. Public participation will be allowed as time permits and as determined to be desirable by the Chairman.

matters to be considered: The Commission and Committee will meet in public session to discuss a broad range of marine mammal matters, focusing primarily on Hawaii and the Pacific islands region. Although subject to change, major issues that the Commission plans to consider at the meeting include cetacean stock assessment and fisheries management throughout the Pacific islands region; humpback whales in Hawaii; marine mammal stranding response efforts in Hawaii; Hawaiian monk seals; management of national wildlife refuges in the Northwestern Hawaiian Islands; the NWHI Coral Reef Ecosystem Reserve; and spinner dophin populations in Hawaiian waters. A more detailed agenda can be found on the Commission's Web site, http://www.mmc.gov.

FOR FURTHER INFORMATION CONTACT: David Cottingham, Executive Director, Marine Mammal Commission, 4340 East-West Highway, Room 905, Bethesda, MD 20814, (303) 504-0087.

Dated: September 24, 2004.
David Cottingham,
Executive Director.

[FR Doc. 04-21775 Filed 9-24-04; 10:55 am]

BILLING CODE 6820-31-M